DEPARTMENT OF AGRICULTURE

Food Safety and Inspection Service

[Docket No. FSIS-2012-0001]

Codex Alimentarius Commission: Meeting of the Codex Committee on Food Additives

AGENCY: Office of the Under Secretary for Food Safety, USDA.

ACTION: Notice of public meeting and request for comments.

SUMMARY: The Office of the Under Secretary for Food Safety, U.S. Department of Agriculture (USDA), and the Food and Drug Administration (FDA), U.S. Department of Health and Human Services, are sponsoring a public meeting on February 13, 2012. The objective of the public meeting is to provide information and receive public comments on agenda items and draft United States (U.S.) positions that will be discussed at the 44th Session of the Codex Committee on Food Additives (CCFA) of the Codex Alimentarius Commission (Codex), which will be held in Hangzhou, China March 12-16, 2012. USDA and FDA recognize the importance of providing interested parties the opportunity to obtain background information on the 44th Session of the CCFA and to address items on the agenda.

DATES: The public meeting is scheduled for Monday, February 13, 2012, from 9 a.m. to 12 p.m.

ADDRESSES: The public meeting will be held in Rooms 1A-001 and 1A-002, FDA, Harvey Wiley Federal Building, 5100 Paint Branch Parkway, College Park, MD 20740.

Documents related to the 44th Session of the CCFA will be accessible via the World Wide Web at the following address: http://www.codexalimentarius.org.

The U.S. Delegate to the 44th Session of the CCFA, Dennis Keefe, and FDA, invite interested U.S. parties to submit their comments electronically to the following email address: cfsan-ccfa@fda.hhs.gov.

Registration: Attendees may register electronically at the same email address provided above by February 8, 2012. Early registration is encouraged because it will expedite entry into the building and its parking area. If you require parking, please include the vehicle make and tag number when you register. Because the meeting will be held in a Federal building, you should also bring photo identification and plan for adequate time to pass through security screening systems. Attendees that are not able to attend the meeting in-person but wish to participate may do so by phone. Those wishing to participate by phone should request the call-in number and conference code when they register for the meeting.

For Further Information About the 44TH Session of the CCFA Contact: Dennis M. Keefe, Ph.D., Director, Office of Food Additive Safety, Center for Food Safety and Applied Nutrition CFSAN/FDA, HFS-205, 5100 Paint Branch Parkway, College Park, MD 20740, Telephone: (240) 402-1200, Fax: (301) 436-2972, email: dennis.keefe@fda.hhs.gov.

For Further Information About the Public Meeting Contact: Jannavi R. Srinivasan, Ph.D., Chemistry Reviewer, Division of Biotech and GRAS Notice Review, Office of Food Additive Safety CFSAN/FDA HFS-255, 5100 Paint Branch Parkway, College Park, MD 20740, telephone: (240) 402-1199, fax: (301) 436-2965, email: jannavi.srinivasan@fda.hhs.gov.

SUPPLEMENTARY INFORMATION:

Background

Codex was established in 1963 by two United Nations organizations, the Food and Agriculture Organization (FAO) and the World Health Organization (WHO). Through adoption of food standards, codes of practice, and other guidelines developed by its committees, and by promoting their implementation by governments, Codex seeks to protect the health of consumers and ensure that fair practices are used in trade.

The CCFA establishes or endorses permitted maximum levels for individual additives; prepares priority lists of food additives for risk assessment by the Joint FAO/WHO Expert Committee on Food Additives (JECFA); assigns functional classes to individual food additives; recommends specifications of identity and purity for food additives for adoption by Codex; considers methods of analysis for the determination of additives in food; and considers and elaborates standards or codes for related subjects such as labeling of food additives when sold as such. The CCFA is hosted by China.

Issues To Be Discussed at the Public Meeting

The following items on the agenda for the 44th Session of the CCFA will be discussed during the public meeting:

• Matters referred by Codex and other Codex Committees and Task Forces (CX/FA 12/44/2)

• Draft risk analysis principles applied by the CCFA (CX/FA 12/44/3)

• Matters of interest arising from FAO/WHO and from the 74th Meeting of the JECFA (CX/FA 12/44/4)

• Endorsement or revision of maximum levels for food additives and processing aids in Codex standards (CX/FA 12/44/5)

• Discussion paper on the alignment of the food additive provisions of the standards for meat products and relevant provisions of the General Standard for Food Additives (GSFA) (CX/FA 12/44/6)

• Pending draft and proposed draft food additives provisions and related matters (CX/FA 12/44/7)

• Comments and information on several food additives (replies to CL 2011/4-FA, Part B, points 9, 10 and 11 and CL 2011/17-FA) (CX/FA 12/44/8)

• Draft and proposed draft food additive provisions (provisions in Table 1 and 2 of Table 3 food additives with “acidity regulators” or “emulsifier, stabilizer and thickener” function) (CX/FA 12/44/9) and the proposed horizontal approach for consideration of these provisions (CX/FA 12/44/9 Add. 1)

• Provisions for aluminum-containing food additives in the GSFA (CX/FA 12/44/10)

• Discussion paper on description of food category 16.0 of the GSFA (CX/FA 12/44/11)

• Discussion paper on use of Note 161 in the GSFA (CX/FA 12/44/12)

• Draft revision of the Standard for Food Grade Salt (CODEX STAN 150-1985) (N08-2010) (REP11/FA App. IX)

• Proposals for changes or additions to the International Numbering System for Food Additives (CX/FA 12/44/14)

• Specifications for the identity and purity of food additives arising from the 74th JECFA Meeting (CX/FA 12/44/15)

• Proposals for additions and changes to the priority list of food additives proposed for evaluation by JECFA (replies to CL 2011/8-FA) (CX/FA 12/44/16)

• Discussion paper on mechanisms for re-evaluation of substances by JECFA (CX/FA 12/44/17)

Each issue listed will be fully described in documents distributed, or to be distributed, by the Executive Secretariat prior to the meeting. Members of the public may also access these documents at http://www.codexalimentarius.org.

Public Meeting

At the February 13, 2012, public meeting, draft U.S. positions on the agenda items will be described and discussed, and attendees will have the opportunity to pose questions and offer comments. Written comments may be offered at the meeting or sent to the U.S. Delegate for the 44th Session of the CCFA, Dr. Dennis Keefe, (see ADDRESSES). Written comments should state that they relate to activities of the 44th Session of the CCFA.

Additional Public Notification

FSIS will announce this notice online through the FSIS Web page located at http://www.fsis.usda.gov/regulations_&_policies/Federal_Register_Notices/index.asp.

FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. In addition, FSIS offers an electronic mail subscription service which provides automatic and customized access to selected food safety news and information. This service is available at http://www.fsis.usda.gov/News_&_Events/Email_Subscription/. Options range from recalls to export information to regulations, directives, and notices. Customers can add or delete subscriptions themselves, and have the option to password protect their accounts.

USDA Nondiscrimination Statement

USDA prohibits discrimination in all its programs and activities on the basis of race, color, national origin, gender, religion, age, disability, political beliefs, sexual orientation, and marital or family status (Not all prohibited bases apply to all programs).

Persons with disabilities who require alternative means for communication of program information (Braille, large print, and audiotape) should contact USDA's Target Center at (202) 720-2600 (voice and TTY).

To file a written complaint of discrimination, write USDA, Office of the Assistant Secretary for Civil Rights, 1400 Independence Avenue SW., Washington, DC 20250-9410 or call (202) 720-5964 (voice and TTY). USDA is an equal opportunity provider and employer.

Done at Washington, DC, on January 27, 2012.
Doreen Chen-Moulec,
U.S. Office for Codex Alimentarius.

[FR Doc. 2012-2449 Filed 2-2-12; 8:45 am]

BILLING CODE 3410-DM-P